DEPARTMENT OF TRANSPORTATION

Federal Aviation Administration

14 CFR Part 39

[Docket No. FAA-2013-0326; Directorate Identifier 2012-NM-089-AD; Amendment 39-17786; AD 2014-05-13]

RIN 2120-AA64

Airworthiness Directives; The Boeing Company Airplanes

AGENCY: Federal Aviation Administration (FAA), DOT.

ACTION: Final rule.

SUMMARY: We are superseding Airworthiness Directive (AD) 2004-12-07 for certain The Boeing Company Model 757 series airplanes equipped with Rolls-Royce RB211 engines. AD 2004-12-07 required modification of the nacelle strut and wing structure; and for certain airplanes, repetitive detailed inspections of certain aft bulkhead fasteners for loose or missing fasteners, and corrective action if necessary. For certain other airplanes, AD 2004-12-07 required a one-time detailed inspection of the middle gusset of the inboard side load fitting for proper alignment, and realignment if necessary; a one-time eddy current inspection of certain fastener holes for cracking, and repair if necessary; and a detailed inspection of certain fasteners for loose or missing fasteners, and replacement with new fasteners if necessary. This new AD specifies a maximum compliance time limit. This AD was prompted by reports indicating that the actual operational loads applied to the nacelle are higher than the analytical loads that were used during the initial design. We are issuing this AD to prevent fatigue cracking in primary strut structure and consequent reduced structural integrity of the strut.

DATES: This AD is effective April 22, 2014.

The Director of the Federal Register approved the incorporation by reference of certain publications listed in the AD as of April 22, 2014.

The Director of the Federal Register approved the incorporation by reference of certain other publications listed in this AD as of July 21, 2004 (69 FR 33561, June 16, 2004).

The Director of the Federal Register approved the incorporation by reference of a certain other publication listed in this AD as of January 3, 2000 (64 FR 66370, November 26, 1999).

ADDRESSES: For service information identified in this AD, contact Boeing Commercial Airplanes, Attention: Data & Services Management, P.O. Box 3707, MC 2H-65, Seattle, WA 98124-2207; telephone: 206-544-5000, extension 1; fax: 206-766-5680; Internet: https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-0326; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Nancy Marsh, Aerospace Engineer, Airframe Branch, ANM-120S, Seattle Aircraft Certification Office (ACO), FAA, 1601 Lind Avenue SW., Renton, WA 98057-3356; phone: 425-917-6440; fax: 425-917-6590; email: Nancy.Marsh@faa.gov.

SUPPLEMENTARY INFORMATION:

Discussion

We issued a notice of proposed rulemaking (NPRM) to amend 14 CFR part 39 to supersede AD 2004-12-07, Amendment 39-13666 (69 FR 33561, June 16, 2004). AD 2004-12-07 applied to certain The Boeing Company Model 757 series airplanes equipped with Rolls-Royce RB211 engines. The NPRM published in the Federal Register on April 15, 2013 (78 FR 22215). The NPRM was prompted by reports indicating that the actual operational loads applied to the nacelle are higher than the analytical loads that were used during the initial design. The NPRM proposed to retain the requirements of AD 2004-12-07, which required modification of the nacelle strut and wing structure; and for certain airplanes, repetitive detailed inspections of certain aft bulkhead fasteners for loose or missing fasteners, and corrective action if necessary. For certain other airplanes, AD 2004-12-07 required a one-time detailed inspection of the middle gusset of the inboard side load fitting for proper alignment, and realignment if necessary; a one-time eddy current inspection of certain fastener holes for cracking, and repair if necessary; and a detailed inspection of certain fasteners for loose or missing fasteners, and replacement with new fasteners if necessary. The NPRM proposed to specify a maximum compliance time limit to modify the nacelle strut and wing structure. We are issuing this AD to prevent fatigue cracking in primary strut structure and consequent reduced structural integrity of the strut.

Comments

We gave the public the opportunity to participate in developing this AD. The following presents the comments received on the proposal (78 FR 22215, April 15, 2013) and the FAA's response to each comment.

Support for the NPRM (78 FR 22215, April 15, 2013)

Boeing stated that it concurs with the contents of the NPRM (78 FR 22215, April 15, 2013).

Clarification of Effect of Winglet Installation

Aviation Partners Boeing stated that accomplishing the supplemental type certificate (STC) ST01518SE does not affect the actions specified in the NPRM (78 FR 22215, April 15, 2013).

We concur with the commenter. We have redesignated paragraph (c) of the NPRM (78 FR 22215, April 15, 2013) as (c)(1) and added new paragraph (c)(2) to this final rule to state that installation of STC ST01518SE (http://rgl.faa.gov/Regulatory_and_Guidance_Library/rgstc.nsf/0/48e13cdfbbc32cf4862576a4005d308b/Body/0.48A!OpenElement&FieldElemFormat=gif) does not affect the ability to accomplish the actions required by this final rule. Therefore, for airplanes on which STC ST01518SE is installed, a “change in product” alternative method of compliance (AMOC) approval request is not necessary to comply with the requirements of 14 CFR 39.17.

Request To Clarify Concurrent Requirements

FedEx requested that we clarify the requirements of paragraph (j) of the NPRM (78 FR 22215, April 15, 2013), which specified concurrent actions. FedEx explained that the NPRM requirement and paragraph 1.B., of Boeing Service Bulletin 757-54-0035, Revision 6, dated December 2, 2011, conflict with the information in paragraph D., of Boeing Service Bulletin 757-54-0035, Revision 6, dated December 2, 2011. FedEx stated that paragraph D. of Boeing Service Bulletin 757-54-0035, Revision 6, dated December 2, 2011, states that Boeing Service Bulletin 757-54-0003, Revision 1, dated August 30, 1985; and Boeing Service Bulletin 757-54-0028, Revision 1, dated August 25, 1994 (the concurrent actions required by paragraph (j) of the NPRM); no longer need to be accomplished.

We agree to clarify the concurrent actions. Table I of paragraph D. in Boeing Service Bulletin 757-54-0035, Revision 6, dated December 2, 2011, is in error. We have added Note 1 to paragraph (j) of this final rule, which states that paragraph D. of Boeing Service Bulletin 757-54-0035, Revision 6, dated December 2, 2011, incorrectly states that the actions described in Boeing Service Bulletin 757-54-0003, Revision 1, dated August 30, 1985; and Boeing Service Bulletin 757-54-0028, Revision 1, dated August 25, 1994; no longer need to be accomplished.

Request To Change When Concurrent Actions Are To Be Done

American Airlines (AAL) requested that we change paragraph (j) (concurrent actions) of the NPRM (78 FR 22215, April 15, 2013), which specifies doing the actions at the same time as paragraph (i) of the NPRM, to specify that the concurrent actions are to be done at the same time as the actions required by paragraph (g) of the NPRM. AAL stated that the pylon modification action is mandated by paragraph (g) of the NPRM, and paragraph (i) of the NPRM mandates only the time at which the modification must be accomplished.

We do not agree with the commenter's request because, although the requirement for the modification is first specified in paragraph (g) of this final rule, which is a restatement from AD 2004-12-07, Amendment 39-13666 (69 FR 33561, June 16, 2004), the new requirement is in paragraph (i) of this final rule. Paragraph (i) of this final rule correctly references paragraph (g) of this final rule. If the concurrent actions specified in paragraph (j) of this final rule are to be accomplished at the same time as paragraph (g) of this final rule, as the commenter suggests, that would make the requirement retroactive, and would potentially put operators out of compliance. We have not changed this final rule in this regard.

Request for Repair Credit

AAL requested that we allow credit for repairs specified in paragraph (k) of the NPRM (78 FR 22215, April 15, 2013) that are made “before the effective date of this AD” using Boeing Service Bulletin 757-54-0028, dated March 31, 1994; or Boeing Service Bulletin 757-54-0028, Revision 1, dated August 25, 1994.

We do not agree with the commenter's request. Paragraph (k)(1) of this final rule requires that cracking be repaired using a method approved by the FAA as specified in paragraph (n) of the final rule. Boeing Service Bulletin 757-54-0028, dated March 31, 1994; and Boeing Service Bulletin 757-54-0028, Revision 1, dated August 25, 1994; do not contain procedures for repairing cracking, and only specify to contact Boeing if cracking is found. We infer that the commenter is requesting credit for any repair done in accordance with procedures provided by Boeing or with the operator's own methods. The commenter has not provided any details about any such repairs, and therefore we cannot give credit for these repairs. However, under the provisions of paragraph (n) of this final rule, repairs may be approved if substantiating data are provided showing that the repair provides an acceptable level of safety.

For paragraph (k)(2) of this final rule, Boeing Service Bulletin 757-54-0028, Revision 1, dated August 25, 1994, is already specified as the appropriate source of service information for accomplishing repair of the holes. In addition, since Boeing Service Bulletin 757-54-0028, dated March 31, 1994, does not contain procedures for repairing holes, we cannot give credit for Boeing Service Bulletin 757-54-0028, dated March 31, 1994. However, under the provisions of paragraph (n) of this final rule, repairs may be approved if substantiating data are provided showing that the repair provides an acceptable level of safety. We have not changed this final rule in this regard.

Request To Clarify Inspections

AAL requested that we not require the paragraph following the compliance table in paragraph l.E., “Compliance,” of Boeing Service Bulletin 757-54-0035, Revision 6, dated December 2, 2011. AAL stated that the interim inspections specified in the paragraph following the compliance table in paragraph l.E., “Compliance,” of Boeing Service Bulletin 757-54-0035, Revision 6, dated December 2, 2011, are unclear and that, if required, the inspections should be specified in a new (additional) paragraph.

We agree to clarify. Paragraphs (g) and (i) of this final rule specifically require accomplishment of the modification of the strut as specified in Boeing Service Bulletin 757-54-0035, Revision 6, dated December 2, 2011, and do not require any interim inspections. Although there are certain inspections specifically required in paragraphs (h) and (j) of this final rule, there are no interim inspections specified in any paragraph of this final rule. Therefore, the interim inspections defined in the paragraph following the table in paragraph l.E., “Compliance,” of Boeing Service Bulletin 757-54-0035, Revision 6, dated December 2, 2011, are not required by this final rule. We have not changed this final rule in this regard.

Request To Do Work Out of Sequence

AAL requested that we allow instructions to be worked out of sequence. AAL stated that by requiring operators to adhere to the sequence of steps as organized in the service information, based on the strictest interpretation, it can place an undue burden on operators and drive longer aircraft out-of-service time. AAL asserted that not allowing instructions to be worked out of sequence prevents operators from working on the wing structure and the removed pylon structure simultaneously. AAL also stated that without the leeway to work steps out of sequence, if damage is encountered during a particular step, maintenance must wait for a disposition and corrective action for that damage before continuing to the next step.

We partially agree with the commenter's request. We agree with revising the final rule to allow work to be accomplished on the wing structure and the removed pylon structure simultaneously, and for work to be accomplished on both pylons simultaneously, because no detrimental effect on the airplane results from accomplishing the service information in this way.

We disagree with allowing all service information steps to be worked out of sequence. This allowance could be interpreted as allowing service information steps at one pylon, or at one wing location, to be performed out of sequence, which could detrimentally affect the result of the modification.

We also disagree with stating that opposite sides of the strut can be worked at different rates, as some tasks are necessary to be performed in sequence. For further clarification of strut task sequencing, operators may request approval of an AMOC by providing additional details defining the tasks using the procedures defined in paragraph (n) of this final rule.

We have added new paragraph (l) to this final rule, which states that although Boeing Service Bulletin 757-54-0035, Revision 6, dated December 2, 2011, specifies to work the wing modification before the strut modification, this AD allows for the wing and strut modifications to occur simultaneously. This AD also allows for both struts to be modified simultaneously. We have redesignated subsequent paragraphs accordingly. We have also referenced paragraph (l) in paragraphs (g) and (h) of this final rule.

Request To Require Only Certain Service Information Steps

AAL requested that we require only the steps in the service information that are critical for safety of flight. AAL suggested that only Part II, Steps 6, 7, and 9-12; Part III, Steps 4-24; Part IV, Steps 3-7; and Part VI, Steps 3-16 and 19; of Boeing Service Bulletin 757-54-0035, Revision 6, dated December 2, 2011, should be required. AAL stated that preparation and open-up and close-up instructions are not necessary to mandate and can be left to operator discretion on the best methods without affecting the ability to address the safety issue that exists.

We do not agree with AAL's request. Boeing Service Bulletin 757-54-0035, Revision 6, dated December 2, 2011, already allows operator's discretion for certain actions. Note 8 of paragraph 3.B.A., “General Information,” of Boeing Service Bulletin 757-54-0035, Revision 6, dated December 2, 2011, specifies that when the words “refer to” are used for a procedure, operators may use an accepted alternative procedure. Note 11 of paragraph 3.B.A., “General Information,” of Boeing Service Bulletin 757-54-0035, Revision 6, dated December 2, 2011, specifies that for access, all the identified parts do not need to be removed if you can get access without removing the identified parts and that additional parts may be removed if needed.

However, due to the complexity of the modification to the strut, certain preparation and installation steps are needed to prevent damage to the strut structure, systems components, and the engine. In addition, a fuel leak check is specified in Boeing Service Bulletin 757-54-0035, Revision 6, dated December 2, 2011, to ensure that the modification and reassembly were completed and that no hidden damage exists. Therefore, no changes have been made to this final rule in this regard.

Although we have not revised this final rule, we do agree with the concept of minimizing AD requirements when appropriate. The FAA worked in conjunction with industry, under the Airworthiness Directives Implementation Aviation Rulemaking Committee (ARC), to enhance the AD system. One enhancement is a new process for annotating which steps in the service information are “required for compliance” (RC) with an AD. Differentiating these steps from other tasks in the service information is expected to improve an owner's/operator's understanding of AD requirements and help provide consistent judgment in AD compliance. In response to the AD Implementation ARC, the FAA released AC 20-176, dated December 19, 2011 (http://rgl.avs.faa.gov/Regulatory_and_Guidance_Library/rgAdvisoryCircular.nsf/0/a78cc91a47b192278625796b0075f419/$FILE/AC%2020-176.pdf); and Order 8110.117, dated September 12, 2012 (http://rgl.avs.faa.gov/Regulatory_and_Guidance_Library/rgOrders.nsf/0/984bb9eb07cdd86986257a7f0070744c/$FILE/Order%208110.117.pdf), which include the concept of RC. The FAA has begun implementing this concept in ADs when we receive service information containing RC steps. While some design approval holders have implemented the RC concept, the implementation is voluntary. The FAA does not intend to develop or revise AD requirements to incorporate the RC concept if it is not included in the service information.

Contrary to AAL's statement that ADs should mandate only those service bulletin provisions that are necessary to ensure safety of flight, ADs generally contain requirements that are reasonably related to addressing the unsafe condition, as determined by the FAA and the design approval holder that developed the service bulletin. Typically, operators' maintenance programs were not developed in recognition of the unsafe condition that is being addressed by an AD. Whenever we issue an AD, those programs had failed to prevent the unsafe condition in the first place. Therefore, many provisions of ADs address aspects of accomplishing the required maintenance that are necessary to prevent operators from inadvertently aggravating the unsafe condition or introducing new unsafe conditions.

For many years, the Air Transport Association (now Airlines for America, A4A) has sponsored the “Lead Airline” program through which individual airlines are provided an opportunity to prototype manufacturers' draft service instructions before they are finalized. One objective of this activity is to minimize the procedures included in the instructions that are considered unnecessary. Therefore, when the FAA receives a manufacturer's service bulletin, we recognize that the procedures specified have been determined to be necessary by both the manufacturer and affected operators. As in this case, the instructions provided in service bulletins referenced in ADs are reasonably related to addressing the unsafe condition.

As always, if AAL or any other operator prefers to address the unsafe condition by means other than those specified in the referenced service information, they may request approval for an alternative method of compliance using the procedures specified in paragraph (n) of this final rule, and, if approved, may use it instead of the procedures specified in the service information.

Request To Correct Typographical Error

AAL requested that we revise paragraph (j)(1) of the NPRM (78 FR 22215, April 15, 2013) to remove the extra word “dated” from the service information citation.

We agree to correct the typographical error and have removed the extra word “dated.”

Additional Change Made to This Final Rule

The information in paragraph (l)(3) of the NPRM (78 FR 22215, April 15, 2013) has been separated into two paragraphs in this final rule (paragraphs (m)(3) and (m)(4) of this final rule). In addition, we changed the reference in paragraph (m)(3) of this final rule to refer to the actions required by paragraph (j)(1) of this final rule. We also changed the reference in paragraph (m)(4) to this final rule to refer to the actions required by paragraph (j)(2) of this final rule. The content has not been changed.

The information in paragraph (m)(4) of the NPRM (78 FR 22215, April 15, 2013) has been added to new paragraph (n)(4) of this final rule. The content has not been changed.

Conclusion

We reviewed the relevant data, considered the comments received, and determined that air safety and the public interest require adopting this AD with the changes described previously and minor editorial changes. We have determined that these minor changes:

• Are consistent with the intent that was proposed in the NPRM (78 FR 22215, April 15, 2013) for correcting the unsafe condition; and

• Do not add any additional burden upon the public than was already proposed in the NPRM (78 FR 22215, April 15, 2013).

We also determined that these changes will not increase the economic burden on any operator or increase the scope of this AD.

Costs of Compliance

We estimate that this AD affects 176 airplanes of U.S. registry.

We estimate the following costs to comply with this AD:

Estimated Costs
Action | Labor cost | Parts cost | Cost per product | Cost on U.S. operators
Modification [retained from AD 2004-12-07, Amendment 39-13666 (69 FR 33561, June 16, 2004)] | Up to 1,188 work-hours × $85 per hour = $100,980 | $0 | Up to $100,980 | Up to $17,772,480.
One-time Inspection [retained from AD 2004-12-07, Amendment 39-13666 (69 FR 33561, June 16, 2004)] | 1 work-hour × $85 per hour = $85 | 0 | $85 | $14,960.
Concurrent modification [new action, 30 airplanes] | 142 work-hours × $85 per hour = $12,070 | 0 | $12,070 | $362,100.
Concurrent inspection and fastener installation [new action, 12 airplanes] | 104 work-hours × $85 per hour = $8,840 | 0 | $8,840 | $106,080.

We have received no definitive data that would enable us to provide cost estimates for the on-condition actions specified in this AD.

According to the manufacturer, some of the costs of this AD may be covered under warranty, thereby reducing the cost impact on affected individuals. We do not control warranty coverage for affected individuals. As a result, we have included all costs in our cost estimate.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2004-12-07, Amendment 39-13666 (69 FR 33561, June 16, 2004), and adding the following new AD:

2014-05-13 The Boeing Company: Amendment 39-17786; Docket No. FAA-2013-0326; Directorate Identifier 2012-NM-089-AD.

(a) Effective Date

This AD is effective April 22, 2014.

(b) Affected ADs

This AD supersedes AD 2004-12-07, Amendment 39-13666 (69 FR 33561, June 16, 2004).

(c) Applicability

(1) This AD applies to The Boeing Company Model 757-200, -200PF, and -200CB series airplanes, certificated in any category, line numbers 1 through 735 inclusive, equipped with Rolls-Royce RB211 engines.

(2) Installation of Supplemental Type Certificate (STC) ST01518SE (http://rgl.faa.gov/Regulatory_and_Guidance_Library/rgstc.nsf/0/48e13cdfbbc32cf4862576a4005d308b/Body/0.48A!OpenElement&FieldElemFormat=gif) does not affect the ability to accomplish the actions required by this AD. Therefore, for airplanes on which STC ST01518SE is installed, a “change in product” alternative method of compliance (AMOC) approval request is not necessary to comply with the requirements of 14 CFR 39.17.

(d) Subject

Air Transport Association (ATA) of America Code 54, Nacelles/Pylons.

(e) Unsafe Condition

This AD was prompted by reports indicating that the actual operational loads applied to the nacelle are higher than the analytical loads that were used during the initial design. We are issuing this AD to prevent fatigue cracking in primary strut structure and consequent reduced structural integrity of the strut.

(f) Compliance

Comply with this AD within the compliance times specified, unless already done.

(g) Retained Modification

This paragraph restates the requirements of paragraph (a) of AD 2004-12-07, Amendment 39-13666 (69 FR 33561, June 16, 2004), with new service information: Modify the nacelle strut and wing structure according to Boeing Service Bulletin 757-54-0035, dated July 17, 1997; Revision 1, dated April 15, 1999; Revision 2, dated June 13, 2002; or Revision 6, dated December 2, 2011; except as specified in paragraph (l) of this AD; at the later of the times specified in paragraph (g)(1) or (g)(2) of this AD, except as required by paragraph (i) of this AD. All of the terminating actions described in paragraph I.C., Table I, “Strut Improvement Bulletins,” on page 6 of Boeing Service Bulletin 757-54-0035, dated July 17, 1997; page 7 of Boeing Service Bulletin 757-54-0035, Revision 1, dated April 15, 1999; and on page 7 of Boeing Service Bulletin 757-54-0035, Revision 2, dated June 13, 2002; as applicable; must be accomplished prior to, or concurrently with, the accomplishment of the modification of the nacelle strut and wing structure required by this paragraph. After July 21, 2004 (the effective date of AD 2004-12-07), use only Boeing Service Bulletin 757-54-0035, Revision 2, dated June 13, 2002; or Boeing Service Bulletin 757-54-0035, Revision 6, dated December 2, 2011. After the effective date of this AD, use only Boeing Service Bulletin 757-54-0035, Revision 6, dated December 2, 2011. Accomplishment of the actions required by paragraph (i) of this AD terminates the requirements of this paragraph.

(1) Prior to the accumulation of 37,500 total flight cycles, or prior to 20 years since the date of manufacture of the airplane, whichever occurs first.

(2) Within 3,000 flight cycles after January 3, 2000 (the effective date of AD 99-24-07, Amendment 39-11431 (64 FR 66370, November 26, 1999)).

(h) Retained Inspection and Repair

This paragraph restates the requirements of paragraph (c) of AD 2004-12-07, Amendment 39-13666 (69 FR 33561, June 16, 2004), with new service information. For airplanes on which the modification required by paragraph (g) of this AD has been done according to Boeing Service Bulletin 757-54-0035, dated July 17, 1997: Within 15,000 flight cycles after doing the modification required by paragraph (g) of this AD, or within 3 years after July 21, 2004 (the effective date of AD 2004-12-07), whichever is later; do a one-time detailed inspection of the middle gusset of the inboard side load fitting for proper alignment, according to Part II of the Accomplishment Instructions of Boeing Service Bulletin 757-54-0035, Revision 1, dated April 15, 1999; or Revision 2, dated June 13, 2002, excluding Evaluation Form; or Boeing Service Bulletin 757-54-0035, Revision 6, dated December 2, 2011; except as specified by paragraph (l) of this AD. If the gusset is not aligned properly: Before further flight, machine the gusset to the specified angle according to the Accomplishment Instructions of Boeing Service Bulletin 757-54-0035, Revision 1, dated April 15, 1999; or Revision 2, dated June 13, 2002, excluding Evaluation Form; or Boeing Service Bulletin 757-54-0035, Revision 6, dated December 2, 2011. As of the effective date of this AD, use only Boeing Service Bulletin 757-54-0035, Revision 6, dated December 2, 2011, for accomplishing the actions required by this paragraph.

(i) New Compliance Time Limitation

For airplanes on which the modification of the nacelle strut and wing structure required by paragraph (g) of this AD has not been done as of the effective date of this AD: Do the modification required by paragraph (g) of this AD at the later of the times specified in paragraphs (i)(1) and (i)(2) of this AD.

(1) At the time specified in paragraph 1.E., “Compliance,” of Boeing Service Bulletin 757-54-0035, Revision 6, dated December 2, 2011, except that where this service bulletin specifies a compliance time “from the date on Revision 4 of this service bulletin,” this AD requires compliance within the specified compliance time after the effective date of this AD.

(2) Within 3,000 flight cycles after January 3, 2000 (the effective date of AD 99-24-07, Amendment 39-11431 (64 FR 66370, November 26, 1999)).

(j) New Concurrent Actions

Concurrently with or prior to the accomplishment of the actions required by paragraph (i) of this AD, do the actions specified in paragraphs (j)(1) and (j)(2) of this AD.

(1) For airplanes identified in Boeing Service Bulletin 757-54-0003, Revision 1, dated August 30, 1985: Modify the nacelle strut upper spar, in accordance with the Accomplishment Instructions of Boeing Service Bulletin 757-54-0003, Revision 1, dated August 30, 1985.

(2) For airplanes identified in Boeing Service Bulletin 757-54-0028, Revision 1, dated August 25, 1994: Do a detailed inspection and non-destructive test inspection for cracking of the lower chord, mid-chord, and holes (for cracking, galling, corrosion, or damage due to fastener removal), in accordance with the Accomplishment Instructions of Boeing Service Bulletin 757-54-0028, Revision 1, dated August 25, 1994.

Note 1 to paragraph (j) of this AD: Paragraph D. of Boeing Service Bulletin 757-54-0035, Revision 6, dated December 2, 2011, incorrectly states that the actions described in Boeing Service Bulletin 757-54-0003, Revision 1, dated August 30, 1985; and Boeing Service Bulletin 757-54-0028, Revision 1, dated August 25, 1994; no longer need to be accomplished.

(k) Repair

(1) If any cracking is found during any inspection required by paragraph (j)(2) of this AD: Before further flight, repair the cracking using a method approved in accordance with the procedures specified in paragraph (n) of this AD.

(2) If any holes with galling, corrosion, or damage due to fastener removal are found during any inspection required by paragraph (j)(2) of this AD: Before further flight, repair the holes, in accordance with the Accomplishment Instructions of Boeing Service Bulletin 757-54-0028, Revision 1, dated August 25, 1994.

(l) Work Sequence Requirement

Although Boeing Service Bulletin 757-54-0035, Revision 6, dated December 2, 2011, specifies to work the wing modification before the strut modification, this AD allows for the wing and strut modifications to occur simultaneously. This AD also allows for both struts to be modified simultaneously.

(m) Credit for Previous Actions

(1) This paragraph provides credit for the actions required by paragraph (g) of this AD, if those actions were performed before the effective date of this AD using Boeing Service Bulletin 757-54-0035, Revision 4, dated June 18, 2009; or Revision 5, dated June 9, 2011; which are not incorporated by reference in this AD.

(2) This paragraph provides credit for the actions required by paragraph (h) of this AD, if those actions were performed before the effective date of this AD using Boeing Service Bulletin 757-54-0035, Revision 4, dated June 18, 2009; or Revision 5, dated June 9, 2011; which are not incorporated by reference in this AD.

(3) This paragraph provides credit for the actions required by paragraph (j)(1) of this AD, if those actions were performed before the effective date of this AD using Boeing Service Bulletin 757-54-0003, dated December 14, 1984, which is not incorporated by reference in this AD.

(4) This paragraph provides credit for the actions required by paragraph (j)(2) of this AD, if those actions were performed before the effective date of this AD using Boeing Service Bulletin 757-54-0028, dated March 31, 1994, which is not incorporated by reference in this AD.

(n) Alternative Methods of Compliance (AMOCs)

(1) The Manager, Seattle Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (o)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane and the approval must specifically refer to this AD.

(4) AMOCs approved for AD 2004-12-07, Amendment 39-13666 (69 FR 33561, June 16, 2004), are approved as AMOCs for paragraphs (g) and (h) of this AD, except for AMOCs that approved a revised compliance time.

(o) Related Information

(1) For more information about this AD, contact Nancy Marsh, Aerospace Engineer, Airframe Branch, ANM-120S, Seattle Aircraft Certification Office (ACO), FAA, 1601 Lind Avenue SW., Renton, WA 98057-3356; phone: 425-917-6440; fax: 425-917-6590; email: Nancy.Marsh@faa.gov.

(2) Service information identified in this AD that is not incorporated by reference may be obtained at the addresses specified in paragraphs (p)(6) and (p)(7) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on April 22, 2014.

(i) Boeing Service Bulletin 757-54-0003, Revision 1, dated August 30, 1985.

(ii) Boeing Service Bulletin 757-54-0028, Revision 1, dated August 25, 1994.

(iii) Boeing Service Bulletin 757-54-0035, Revision 6, dated December 2, 2011.

(4) The following service information was approved for IBR on July 21, 2004 (69 FR 33561, June 16, 2004).

(i) Boeing Service Bulletin 757-54-0035, Revision 1, dated April 15, 1999.

(ii) Boeing Service Bulletin 757-54-0035, Revision 2, dated June 13, 2002.

(5) The following service information was approved for IBR on January 3, 2000 (64 FR 66370, November 26, 1999).

(i) Boeing Service Bulletin 757-54-0035, dated July 17, 1997.

(ii) Reserved.

(6) For service information identified in this AD, contact Boeing Commercial Airplanes, Attention: Data & Services Management, P.O. Box 3707, MC 2H-65, Seattle, WA 98124-2207; phone: 206-544-5000, extension 1; fax: 206-766-5680; Internet: https://www.myboeingfleet.com.

(7) You may view copies of this service information at the FAA, Transport Airplane Directorate, 1601 Lind Avenue SW., Renton, WA. For information on the availability of this material at the FAA, call 425-227-1221.

(8) You may view this service information that is incorporated by reference at the National Archives and Records Administration (NARA). For information on the availability of this material at NARA, call 202-741-6030, or go to: http://www.archives.gov/federal-register/cfr/ibr-locations.html.

Issued in Renton, Washington, on February 19, 2014.
Jeffrey E. Duven,
Manager, Transport Airplane Directorate, Aircraft Certification Service.

[FR Doc. 2014-04826 Filed 3-17-14; 8:45 am]

BILLING CODE 4910-13-P